DEPARTMENT OF THE INTERIOR

National Park Service

National Register of Historic Places; Notification of Pending Nominations

Nominations for the following properties being considered for listing in the National Register were received by the National Park Service before April 7, 2001. Pursuant to section 60.13 of 36 CFR part 60 written comments concerning the significance of these properties under the National Register criteria for evaluation may be forwarded to the National Register, National Park Service, 1849 C St. NW., NC400, Washington, DC 20240. Written comments should be submitted by May 7, 2001.

Carol D. Shull,
Keeper of the National Register of Historic Places.

Arizona

Maricopa County

Smurthwaite House, (Nineteenth-Century Residential Buildings in Phoenix MPS), 317 W. Jefferson, Phoenix, 01000479

Arkansas

Cleveland County

Rison Cities Service Station, (Arkansas Highway History and Architecture MPS), 308 Main St., Rison, 01000486

Dallas County

Marathon Oil Service Station, (Arkansas Highway History and Architecture MPS), E. Second and Spring St., Fordyce, 01000484

Hot Spring County

Couchwood Historic District, 301 Couchwood Rd., Hot Springs, 01000487

Independence County

Lee's Chapel Church and Masonic Hall, 8 mi. E on Sandtown Rd., Cushman, 01000482

Jefferson County

Arkansas Louisiana Gas Company Building, 116 West 6th, Pine Bluff, 01000480

Johnson County

McConnell, Edward Taylor, House, 302 S. Fulton St., Clarksville, 01000485

Yell County

Cotton, Thomas James, House, 405 S. Third St., Dardanelle, 01000483

California

Sacramento County

Sacramento Masonic Temple, 1131 J St., Sacramento, 01000488

San Francisco County

Hale Brothers Department Store (Boundary Increase), 36 Fifth St., 423-27 and 429 Stevenson St., San Francisco, 01000490

Colorado

Larimer County

Preston Farm, 4605 S. Ziegler Rd., Fort Collins, 01000489

Georgia

Paulding County

Hiram Colored School, W of GA 92 bet. jct. of Fitzgerald and Ragsdale Sts., Hiram, 01000494

Thomas County

Stevens Street Historic District, Along Stevens St., 1 blk. NW of Thomas County Courthouse, Thomasville, 01000500

Louisiana

Assumption Parish

St. Anne Catholic Church, 417 St. Joseph St., Napoleonville, 01000492

Ouachita Parish

First United Methodist Church, 101 N. 2nd St., West Monroe, 01000491

Massachusetts

Bristol County

Holmes School Historic District, Hoppin Hill Ave. at Holmes Rd., North Attleborough, 01000499

Mississippi

Warren County

Loosa Yokena Archeological Site, Address Restricted, Kimberly, 01000481

New Jersey

Middlesex County

Metuchen Borough Hall, 500 Main St., Metuchen, 01000503

North Dakota

Cass County

1916 Buffalo High School, 303 Pearl St. N, Buffalo, 01000501

Oregon

Clackamas County

River Mill Hydroelectric Project, Over Clackamas River, Estacada, 01000497

Clatsop County

Sky Lyft, 702 “D” St., Gearhart, 01000496

Deschutes County

Hope—Van Allen House, 352 NW Drake Rd., Bend, 01000495

Gilliam County

Condon Commercial Historic District (Boundary Increase), 122 N. Oregon St., Condon, 01000493

Malheur County

Hart, Moses and Mary, Stone House and Ranch Complex, 1 mi. W of Post Office on Bully Creek County Rd., Westfall, 01000498

Pennsylvania

Montgomery County

Normandy Farmstead, 1411 Morris Rd., Blue Bell, Whitpain Township, 01000502

Northampton County

Zeta Psi Fraternity House, 49 S. College Dr., Easton, 01000506

Tennessee

Knox County

McMillan, Alexander, House, (Knoxville and Knox County MPS), 7703 Strawberry Plains Pike, Knoxville, 01000504

Washington

Island County

Cama Beach Resort, 1880 SW Camano Dr., Camano Island, 01000505

[FR Doc. 01-9821 Filed 4-19-01; 8:45 am]

BILLING CODE 4310-70-P